DEPARTMENT OF TRANSPORTATION

Federal Aviation Administration

14 CFR Part 39

[Docket No. FAA-2024-1294; Project Identifier MCAI-2024-00042-T; Amendment 39-22921; AD 2024-26-06]

RIN 2120-AA64

Airworthiness Directives; Airbus SAS Airplanes

AGENCY: Federal Aviation Administration (FAA), DOT.

ACTION: Final rule.

SUMMARY: The FAA is superseding Airworthiness Directive (AD) 2022-16-06, which applied to certain Airbus SAS Model A330-200, A330-200 Freighter, A330-300, and A330-900 series airplanes; and all Model A340-200 and A340-300 series airplanes. AD 2022-16-06 required modifying the trimmable horizontal stabilizer actuator (THSA) installation, implementing the electrical load sensing device (ELSD) wiring provisions, and installing and activating the ELSD. This AD was prompted by tests that demonstrated that when the upper secondary load path (SLP) of the THSA is engaged, the THSA might not stall, with consequently no indication of SLP engagement, and by the recent determination that the required actions of AD 2022-16-06 cannot be accomplished on certain airplanes. This AD continues to require the actions in AD 2022-16-06 with revised procedures, and also requires additional actions for certain airplanes, as specified in a European Union Aviation Safety Agency (EASA) AD, which is incorporated by reference. The FAA is issuing this AD to address the unsafe condition on these products.

DATES: This AD is effective March 11, 2025.

The Director of the Federal Register approved the incorporation by reference of a certain publication listed in this AD as of March 11, 2025.

ADDRESSES:

AD Docket: You may examine the AD docket at regulations.gov under Docket No. FAA-2024-1294; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For EASA material identified in this AD, contact EASA, Konrad-Adenauer-Ufer 3, 50668 Cologne, Germany; telephone +49 221 8999 000; email ADs@easa.europa.eu; website easa.europa.eu. You may find this material on the EASA website at ad.easa.europa.eu.

• You may view this material at the FAA, Airworthiness Products Section, Operational Safety Branch, 2200 South 216th St., Des Moines, WA. For information on the availability of this material at the FAA, call 206-231-3195. It is also available at regulations.gov under Docket No. FAA-2024-1294.

FOR FURTHER INFORMATION CONTACT: Vladimir Ulyanov, Aviation Safety Engineer, FAA, 1600 Stewart Avenue, Suite 410, Westbury, NY 11590; phone: 206-231-3229; email: Vladimir.Ulyanov@faa.gov.

SUPPLEMENTARY INFORMATION:

Background

The FAA issued a notice of proposed rulemaking (NPRM) to amend 14 CFR part 39 to supersede AD 2022-16-06, Amendment 39-22135 (87 FR 51588, August 23, 2022) (AD 2022-16-06). AD 2022-16-06 applied to certain Airbus SAS Model A330-201, -202, -203, -223, -223F, -243, -243F, -301, -302, -303, -321, -322, -323, -341, -342, -343, and -941 airplanes; and all Model A340-211, -212, -213, -311, -312, and -313 airplanes. AD 2022-16-06 required modifying the THSA installation, implementing the ELSD wiring provisions, and installing and activating the ELSD. The FAA issued AD 2022-16-06 to address damage on the upper THSA SLP attachment with consequent mechanical disconnection of the THSA, possibly resulting in loss of control of the airplane.

The NPRM published in the Federal Register on May 13, 2024 (89 FR 41365). The NPRM was prompted by AD 2024-0016, dated January 11, 2024, issued by EASA, which is the Technical Agent for the Member States of the European Union (EASA AD 2024-0016) (also referred to as the MCAI). The MCAI states it has been determined that the actions specified in EASA AD 2022-0039 cannot be accomplished on certain affected airplanes. Airbus subsequently developed additional instructions and corrections for the procedures. In certain circumstances, there may be no indication to the flightcrew of the engagement of the upper SLP of the THSA. This condition, if not addressed, could lead to damage on the upper THSA SLP attachment with consequent mechanical disconnection of the THSA, resulting in loss of control of the airplane.

In the NPRM, the FAA proposed to continue to require modifying the THSA installation, implementing the ELSD wiring provisions, and installing and activating the ELSD, as specified in FAA AD 2022-16-06 and EASA AD 2022-0039, with revised procedures and additional actions, as specified in EASA AD 2024-0016. The FAA is issuing this AD to address the unsafe condition on these products.

You may examine the MCAI in the AD docket at regulations.gov under Docket No. FAA-2024-1294.

Discussion of Final Airworthiness Directive

Comments

The FAA received a comment from the Air Line Pilots Association, International (ALPA), who supported the NPRM without change.

The FAA received an additional comment from Delta Air Lines (Delta). The following presents that comment and the FAA's response.

Request for Clarification of Mandatory Service Information

The proposed AD would adopt EASA AD 2024-0016, which requires certain actions in accordance with a specific revision of Airbus Service Bulletin A330-27-3237, depending on the airplane serial number, and allows use of later-approved revisions. Delta requested that the FAA clarify the effect of any potential changes, including rework, that are proposed to be included in the forthcoming Revision 03 of Service Bulletin A330-27-3237. According to Delta, Airbus has indicated that Revision 03 will require additional work for any airplane modified by Airbus Service Bulletin A330-27-3237, Revision 01, dated June 20, 2023, or Revision 02, dated February 9, 2024. Delta added that Airbus planned to issue Revision 03 by the end of June 2024.

The FAA provides the following clarification. Revision 03 of Airbus Service Bulletin A330-27-3237 has not been released by Airbus. EASA has informed the FAA of ongoing discussions with Airbus regarding the scope of additional work, the timeline for release of Revision 03 of that service bulletin, and a potential revision to EASA AD 2024-0016. If EASA issues a new AD because it is determined that additional work is needed to address the unsafe condition, then the FAA may consider further rulemaking at that time. This AD requires accomplishing the actions specified in EASA AD 2024-0016. The specific revisions of the service bulletins referenced in EASA AD 2024-0016, as well as later-approved revisions of those service bulletins, are acceptable methods of compliance for accomplishing the requirements of this AD. If an operator elects to use a later-approved revision of a service bulletin, then all the actions identified as “RC” (required for compliance) in that service bulletin must be accomplished, unless alternative actions are approved under the provisions of paragraph (i) of this AD. The FAA has not changed this AD as a result of this comment.

Conclusion

This product has been approved by the aviation authority of another country and is approved for operation in the United States. Pursuant to the FAA's bilateral agreement with this State of Design Authority, it has notified the FAA of the unsafe condition described in the MCAI referenced above. The FAA reviewed the relevant data, considered the comments received, and determined that air safety requires adopting this AD as proposed. Accordingly, the FAA is issuing this AD to address the unsafe condition on this product. Except for minor editorial changes, this AD is adopted as proposed in the NPRM. None of the changes will increase the economic burden on any operator.

Material Incorporated by Reference Under 1 CFR Part 51

EASA AD 2024-0016 specifies procedures for installing and activating the ELSD and wiring provisions, and doing additional work that includes additional instructions and corrections for certain airplanes. This material is reasonably available because the interested parties have access to it through their normal course of business or by the means identified in the ADDRESSES section.

Costs of Compliance

The FAA estimates that this AD affects 120 airplanes of U.S. registry. The FAA estimates the following costs to comply with this AD:

Estimated Costs for Required Actions
Action | Labor cost | Parts cost | Cost per product | Cost on U.S. operators
Retained actions from AD 2022-16-06 | 57 work-hours × $85 per hour = $4,845 | Up to $23,000 | Up to $27,845 | Up to $3,341,400.
New actions | 5 work-hours × $85 per hour = $425 | $43,966 | $44,391 | Up to $5,326,920.

According to the manufacturer, some or all of the costs of this AD may be covered under warranty, thereby reducing the cost impact on affected individuals. The FAA does not control warranty coverage for affected individuals. As a result, the FAA has included all known costs in the cost estimate.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2022-16-06, Amendment 39-22135 (87 FR 51588, August 23, 2022); and

b. Adding the following new AD:

2024-26-06 Airbus SAS: Amendment 39-22921; Docket No. FAA-2024-1294; Project Identifier MCAI-2024-00042-T.

(a) Effective Date

This airworthiness directive (AD) is effective March 11, 2025.

(b) Affected ADs

This AD replaces AD 2022-16-06, Amendment 39-22135 (87 FR 51588, August 23, 2022) (AD 2022-16-06).

(c) Applicability

This AD applies to Airbus SAS airplanes specified in paragraphs (c)(1) and (2) of this AD, certificated in any category, as identified in European Union Aviation Safety Agency (EASA) AD 2024-0016, dated January 11, 2024 (EASA AD 2024-0016).

(1) Model A330-201, -202, -203, -223, -223F, -243, -243F, -301, -302, -303, -321, -322, -323, -341, -342, -343, and -941 airplanes.

(2) Model A340-211, -212, -213, -311, -312, and -313 airplanes.

(d) Subject

Air Transport Association (ATA) of America Code 27, Flight Controls.

(e) Unsafe Condition

This AD was prompted by tests that demonstrated that when the upper secondary load path (SLP) of the trimmable horizontal stabilizer actuator (THSA) is engaged, the THSA might not stall, with consequently no indication of SLP engagement, and by the recent determination that the required actions of AD 2022-16-06 cannot be accomplished on certain airplanes. The FAA is issuing this AD to prevent damage on the upper THSA SLP attachment with consequent mechanical disconnection of the THSA, that could result in loss of control of the airplane.

(f) Compliance

Comply with this AD within the compliance times specified, unless already done.

(g) Requirements

Except as specified in paragraph (h) of this AD: Comply with all required actions and compliance times specified in, and in accordance with, EASA AD 2024-0016.

(h) Exceptions to EASA AD 2024-0016

(1) Where EASA AD 2024-0016 refers to “22 March 2022 [the effective date of EASA AD 2022-0039],” this AD requires using September 27, 2022 (the effective date of AD 2022-16-06).

(2) Where EASA AD 2024-0016 refers to its effective date, this AD requires using the effective date of this AD.

(3) Where paragraph (1) of EASA AD 2024-0016 applies to airplanes in “Group 1,” this AD requires replacing that text with “Group 1 airplanes, except as specified in paragraph (3)”.

(4) This AD does not adopt the “Remarks” section of EASA AD 2024-0016.

(i) Additional AD Provisions

The following provisions also apply to this AD:

(1) Alternative Methods of Compliance (AMOCs): The Manager, International Validation Branch, FAA, has the authority to approve AMOCs for this AD, if requested using the procedures found in 14 CFR 39.19. In accordance with 14 CFR 39.19, send your request to your principal inspector or responsible Flight Standards Office, as appropriate. If sending information directly to the manager of the International Validation Branch, send it to the attention of the person identified in paragraph (j) of this AD and email to: AMOC@faa.gov.

(i) Before using any approved AMOC, notify your appropriate principal inspector, or lacking a principal inspector, the manager of the responsible Flight Standards Office.

(ii) AMOCs approved previously for AD 2022-16-06 are approved as AMOCs for the corresponding provisions of EASA AD 2024-0016 that are required by paragraph (g) of this AD.

(2) Contacting the Manufacturer: For any requirement in this AD to obtain instructions from a manufacturer, the instructions must be accomplished using a method approved by the Manager, International Validation Branch, FAA; or EASA; or Airbus SAS's EASA Design Organization Approval (DOA). If approved by the DOA, the approval must include the DOA-authorized signature.

(3) Required for Compliance (RC): Except as required by paragraph (i)(2) of this AD, if any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(j) Additional Information

For more information about this AD, contact Vladimir Ulyanov, Aviation Safety Engineer, FAA, 1600 Stewart Avenue, Suite 410, Westbury, NY 11590; phone: 206-231-3229; email: Vladimir.Ulyanov@faa.gov.

(k) Material Incorporated by Reference

(1) The Director of the Federal Register approved the incorporation by reference of the material listed in this paragraph under 5 U.S.C. 552(a) and 1 CFR part 51.

(2) You must use this material as applicable to do the actions required by this AD, unless this AD specifies otherwise.

(i) European Union Aviation Safety Agency (EASA) AD 2024-0016, dated January 11, 2024.

(ii) [Reserved]

(3) For EASA material identified in this AD, contact EASA, Konrad-Adenauer-Ufer 3, 50668 Cologne, Germany; telephone +49 221 8999 000; email ADs@easa.europa.eu; website easa.europa.eu. You may find this material on the EASA website at ad.easa.europa.eu.

(4) You may view this material at the FAA, Airworthiness Products Section, Operational Safety Branch, 2200 South 216th St., Des Moines, WA. For information on the availability of this material at the FAA, call 206-231-3195.

(5) You may view this material at the National Archives and Records Administration (NARA). For information on the availability of this material at NARA, visit www.archives.gov/federal-register/cfr/ibr-locations or email fr.inspection@nara.gov.

Issued on January 28, 2025.
Suzanne Masterson,
Deputy Director, Integrated Certificate Management Division, Aircraft Certification Service.

[FR Doc. 2025-02134 Filed 2-3-25; 8:45 am]

BILLING CODE 4910-13-P